DEPARTMENT OF HEALTH AND HUMAN SERVICES

Announcement of Replacement Funding for Title X Family Planning Service Grant to the Massachusetts Department of Public Health

AGENCY: Office of Population Affairs, Office of the Assistant Secretary for Health, Office of the Secretary, Department of Health and Human Services.

ACTION: Notice.

SUMMARY: The Office of Population Affairs (OPA) announces that $714,000 in fiscal year 2014 funds are being awarded for a replacement family planning service grant to the Massachusetts Department of Public Health for Berkshire, Franklin, Hampshire, and Hampden counties. This grant will establish and operate voluntary family planning service projects, which shall provide family planning services to all persons desiring such services, with priority for services to persons from low-income families.

DATES: The replacement grant will be for the current period: July 1, 2014-March 31, 2015.

ADDRESSES: Inquiries may be directed to: Office of Population Affairs, Office of the Assistant Secretary for Health, Department of Health and Human Services, 1101 Wootton Parkway, Suite 700, Rockville, MD 20852.

FOR FURTHER INFORMATION CONTACT: For programmatic questions, please contact Susan Moskosky, MS, WHNP-BC, Acting Director, Office of Population Affairs, Office of the Assistant Secretary for Health, 1101 Wootton Parkway, Suite 700, Rockville, MD 20852. Phone: (240) 453-2888.

For administrative requirements, please contact Alice Bettencourt, Director, Office of Grants Management, Office of the Assistant Secretary for Health, 1101 Wootton Parkway, Suite 550, Rockville, MD 20852. Phone: (240) 453-8822.

SUPPLEMENTARY INFORMATION:

I. Background

Title X of the Public Health Service Act authorizes the Secretary of Health and Human Services (HHS) to award grants for projects to provide family planning services to any person desiring such services, with priority given to individuals from low-income families. Section 1001 of the Act, as amended, authorizes grants “to assist in the establishment and operation of voluntary family planning projects which shall offer a broad range of acceptable and effective family planning methods and services (including natural family planning methods, infertility services, and services for adolescents).” Title X regulations further specify “these projects shall consist of the educational, comprehensive medical, and social services necessary to aid individuals to determine freely the number and spacing of their children” (42 CFR 59.1). Family planning services include clinical family planning and related preventive health services; information, education, and counseling related to family planning; and, referral services as indicated. In addition, section 1001 of the statute requires that, to the extent practicable, Title X service providers shall encourage family participation in family planning services projects. Section 1008 of the Act, as amended, stipulates that “None of the funds appropriated under this title shall be used in programs where abortion is a method of family planning.”

II. Title X Statute and Regulations

Requirements regarding the provision of family planning services under Title X can be found in the statute (Title X of the Public Health Service Act, 42 U.S.C. 300 et seq.) and in the implementing regulations which govern project grants for family planning services (42 CFR part 59, subpart A). In addition, sterilization of clients as part of the Title X program must be consistent with 42 CFR part 50, subpart B (“Sterilization of Persons in Federally Assisted Family Planning Projects”). Title X of the Public Health Service Act authorizes the Secretary of Health and Human Services (HHS) to award grants for projects to provide family planning services to any person desiring such services, with priority given to individuals from low-income families. Authority: Section 1001 of the Public Health Service (PHS) Act. The administrative and funding instrument to be used for this program will be a grant. The replacement grant will be funded with a nine-month project period. Only one award in the amount of $714,000 will be made with the anticipated start date of July 1, 2014.

III. Justification for the Exception to Competition

The replacement grant award is for the maintenance and continuity of Title X services for residents of Hampden, Berkshire, Franklin, and Hampshire counties in Western Massachusetts. Due to the termination and subsequent relinquishment of the grant to Tapestry Health, resulting in the absence of Title X services in a particularly vulnerable part of the state, there was a critical need to ensure these services would continue to be offered. The State of Massachusetts Department of Public Health's (MDPH) experience in administering a federal grant, familiarity with the requirements of the Title X program and the ability to provide services quickly and with minimal interruption identified it as the optimal candidate to provide these services under the current constraints.

Dated: July 2, 2014.
Susan B. Moskosky,
Acting Director, Office of Population Affairs.

[FR Doc. 2014-16109 Filed 7-9-14; 8:45 am]

BILLING CODE 4150-34-P